DEPARTMENT OF THE INTERIOR

National Park Service

[NPS-WASO-NAGPRA-NPS0031097; PPWOCRADN0-PCU00RP14.R50000]

Notice of Inventory Completion: Michigan State Police, Lansing, MI

AGENCY: National Park Service, Interior.

ACTION: Notice.

SUMMARY: The Michigan State Police (MSP) has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Michigan State Police. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Michigan State Police at the address in this notice by December 7, 2020.

ADDRESSES: Hanna Friedlander, Human Remains Analyst, Michigan State Police, Intelligence Operations Division—Missing Persons Coordinator Unit, 7150 Harris Drive, Lansing, MI 48821, telephone (517) 242-5731, email friedlanderh@michigan.gov.

SUPPLEMENTARY INFORMATION: Notice is here given in accordance with the Native American Graves Protection and Repatriation Act (NAGPRA), 25 U.S.C. 3003, of the completion of an inventory of human remains under the control of the Michigan State Police, Lansing, MI. The human remains were removed from Frenchtown Charter Township, Monroe County and Jackson County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Michigan State Police professional staff in consultation with representatives of the Match-e-be-nash-she-wish Band of Pottawatomi Indians of Michigan; Nottawaseppi Huron Band of the Potawatomi (previously listed as Huron Potawatomi, Inc.); Pokagon Band of Potawatomi Indians, Michigan and Indiana; and the Saginaw Chippewa Indian Tribe of Michigan.

History and Description of the Remains

On April 22, 2009, human remains representing, at minimum, one individual were removed from Frenchtown Charter Township, Monroe County, MI (Frenchtown Twp.). MSP Monroe was dispatched to a private residence along the Lake Erie shoreline in Frenchtown Twp., on April 22, 2009, following the reported finding of a possible human jaw laying in the sand on the lakeside. The homeowners had removed the mandible from the lakeside to their patio to protect it. Upon arrival, the officer examined the human remains, collected them, and took them to the Michigan State Police Northville Lab for assessment. The remains were determined to be human and sent to the University of North Texas Center for Human Identification (UNTCHI) for analysis. A sample of bone was taken for DNA analysis and extraction while at the UNTCHI. The human remains were returned to MSP Monroe on September 4, 2012. On March 13, 2013, the human remains were transferred to the Wayne County Medical Examiner's Office (WCMEO) in Detroit, MI. On December 16, 2019, Ms. Hanna Friedlander located the human remains at the WCMEO and transferred them to the MSP Headquarters in Lansing, MI, where they are known as MSP 28-1233-09.

Based on the robustness of the mandible and the bilobate chin, the mandible was determined to be male. The teeth showed pronounced occlusal wear, most likely from a diet high in coarse materials. The clasis on the lingual side of the mandible was minimal, suggesting a younger individual. The pronounced parabolic arch, in combination with the dental wear, yielded an assessment that the individual was of Native American descent. This determination was made by John A. Servello, BA, and overseen by Dr. H. Gill-King, D-ABFA. No known individual was identified. No associated funerary objects are present.

On July 22, 2019, human remains representing, at minimum, one individual were removed from their resting spot in Jackson County, MI. The remains were transported to Michigan State University for forensic anthropological assessment, which was completed by MA student Alex Groots and Dr. Joseph Hefner, D-ABFA. On October 10, 2019, the human remains were returned to the Michigan State Police, where they are known as FA020-19.

The recovered human remains consist of 13 maxillary and 11 mandibular fragments, fragmentary cranium and mandible, seven approximately unidentifiable cranial fragments, four fragmentary left ribs, four unsided rib fragments, two fragmentary cervical vertebrae, one fragmentary thoracic vertebra, one left clavicle fragment, one unsided scapula fragment, the shaft of the left tibia, the left navicular, and approximately 17 unidentifiable post-cranial fragments. Analysis of the human remains indicate that the individual was an adult male over the age of 50. The cranial features include a large mastoid process, blunt supraorbital margins, and a robust glabella (Buikstra and Ubelaker 1994); this is confirmed via a logistic regression equation (Walker 2008). The age of the individual was determined via the complete obliteration of the transverse palatine suture, in combination with the complete eruption of all third molars and extensive tooth wear. Based on a three-group discriminant function analysis, the individual exhibits macromorphoscopic traits most similar to those of Native Americans. In addition, the dentition of this individual is characteristic of Native American ancestry. The taphonomy of the human remains indicates they had been buried for a long time. No known individual was identified. The 22 associated funerary objects are seven sherds of cord-impressed pottery, three worked stones, and 12 assorted fire-cracked rocks. The funerary objects are consistent with prehistoric Native American burials.

Determinations Made by the Michigan State Police

Officials of the Michigan State Police have determined that:

• Pursuant to 25 U.S.C. 3001(9), the human remains described in this notice are Native American based on the dental occlusal wear, the post-mortem interval as indicated by the shells, mollusks, and other aquatic indications left on the mandible, and a three-group discriminant function analysis using macromorphic traits, in addition to dental characteristics including shovel shaped incisors and extreme tooth wear.

• Pursuant to 25 U.S.C. 3001(9), the human remains described in this notice represent the physical remains of two individuals of Native American ancestry.

• Pursuant to 25 U.S.C. 3001(3)(A), the 22 objects described in this notice are reasonably believed to have been placed with or near individual human remains at the time of death or later as part of the death rite or ceremony.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Bad River Band of the Lake Superior Tribe of Chippewa Indians of the Bad River Reservation, Wisconsin; Bay Mills Indian Community, Michigan; Chippewa Cree Indians of the Rocky Boy's Reservation, Montana (previously listed as Chippewa-Cree Indians of the Rocky Boy's Reservation, Montana); Citizen Potawatomi Nation, Oklahoma; Delaware Nation, Oklahoma; Delaware Tribe of Indians; Eastern Shawnee Tribe of Oklahoma; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Match-e-be-nash-she-wish Band of Pottawatomi Indians of Michigan; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as Huron Potawatomi, Inc.); Ottawa Tribe of Oklahoma; Pokagon Band of Potawatomi Indians, Michigan and Indiana; Prairie Band Potawatomi Nation (previously listed as Prairie Band of Potawatomi Nation, Kansas); Red Cliff Band of Lake Superior Chippewa Indians of Wisconsin; Red Lake Band of Chippewa Indians, Minnesota; Saginaw Chippewa Indian Tribe of Michigan; Sault Ste. Marie Tribe of Chippewa Indians, Michigan; Seneca Nation of Indians (previously listed as Seneca Nation of New York); Seneca-Cayuga Nation (previously listed as Seneca-Cayuga Tribe of Oklahoma); Shawnee Tribe; Sokaogon Chippewa Community, Wisconsin; St. Croix Chippewa Indians of Wisconsin; Stockbridge Munsee Community, Wisconsin; Tonawanda Band of Seneca (previously listed as Tonawanda Band of Seneca Indians of New York); Turtle Mountain Band of Chippewa Indians of North Dakota; and the Wyandotte Nation (hereafter referred to as “The Tribes”).

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Hanna Friedlander, Human Remains Analyst, Michigan State Police, Intelligence Operations Division—Missing Persons Coordinator Unit, 7150 Harris Drive, Lansing, MI 48821, telephone (517) 242-5731, email friedlanderh@michigan.gov, by December 7, 2020. After that date, if no additional requestors have come forward, transfer of control of the Monroe County human remains to The Tribes may proceed.

The Michigan State Police is responsible for notifying The Tribes that this notice has been published.

Dated: October 22, 2020.
Melanie O'Brien,
Manager, National NAGPRA Program.

[FR Doc. 2020-24686 Filed 11-5-20; 8:45 am]

BILLING CODE 4312-52-P